NUCLEAR REGULATORY COMMISSION

[NRC-2020-0275]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from November 13, 2020, to December 10, 2020. The last monthly notice was published on December 1, 2020.

DATES: Comments must be filed by January 28, 2021. A request for a hearing or petitions for leave to intervene must be filed by March 1, 2021.

ADDRESSES: You may submit comments by any of the following method; however, the NRC encourages electronic comment submission through the Federal Rulemaking website.

• Federal Rulemaking website: Go to https://www.regulations.gov and search for Docket ID NRC-2020-0275. Address questions about NRC Docket IDs in Regulations.gov to Jennifer Borges; telephone: 301-287-9127; email: Jennifer.Borges@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kay Goldstein, Office of Nuclear Reactor Regulation, telephone: 301-415-1506, email: kay.goldstein@nrc.gov, U.S. Nuclear Regulatory Commission, Washington DC 20555-0001.

SUPPLEMENTARY INFORMATION:

I. Obtaining Information and Submitting Comments

A. Obtaining Information

Please refer to Docket ID NRC-2020-0275, facility name, unit number(s), docket number(s), application date, and subject when contacting the NRC about the availability of information for this action. You may obtain publicly available information related to this action by any of the following methods:

• Federal Rulemaking website: Go to https://www.regulations.gov and search for Docket ID NRC-2020-0275.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced (if it is available in ADAMS) is provided the first time that it is mentioned in this document.

• Attention: The PDR, where you may examine and order copies of public documents is currently closed. You may submit your request to the PDR via email at PDR.Resource@nrc.gov or call 1-800-397-4209 between 8:00 a.m. and 4:00 p.m. (EST), Monday through Friday, except Federal holidays.

B. Submitting Comments

The NRC encourages electronic comment submission through the Federal Rulemaking website (https://www.regulations.gov). Please include Docket ID NRC-2020-0275, facility name, unit number(s), docket number(s), application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with title 10 of the Code of Federal Regulations (10 CFR) section 50.91, are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example, in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Dominion Nuclear Connecticut, Inc.; Millstone Power Station, Unit No. 3; New London County, CT
Docket No(s) | 50-423.
Application date | November 5, 2020.
ADAMS Accession No | ML20310A324.
Location in Application of NSHC | Pages 8 and 9 of Attachment 1.
Brief Description of Amendment(s) | The proposed amendment would update the list of approved methodologies for the Core Operating Limits Report in Millstone Power Station, Unit No. 3 (Millstone 3), Technical Specification 6.9.1.6.b to reflect Westinghouse Topical Report (TR) WCAP-16996-P-A, Revision 1, “Realistic LOCA [Loss-of-Coolant Accident] Evaluation Methodology Applied to the Full Spectrum of Break Sizes (FULL SPECTRUM LOCA Methodology).” The reference would replace the existing reference for TR WCAP-12945-P-A, “Code Qualification Document for Best Estimate LOCA Analysis,” which is a legacy code qualification document for large-break LOCA that is no longer used at Millstone 3.
Proposed Determination | NSHC.
Name of Attorney for Licensee, Mailing Address | Lillian M. Cuoco, Esq., Senior Counsel, Dominion Energy, Inc., 120 Tredegar Street, RS-2, Richmond, VA 23219.
NRC Project Manager, Telephone Number | Richard Guzman, 301-415-1030.
Duke Energy Carolinas, LLC; Catawba Nuclear Station, Units 1 and 2; York County, SC; Duke Energy Carolinas, LLC; McGuire Nuclear Station, Units 1 and 2; Mecklenburg County, NC
Docket No(s) | 50-413, 50-414, 50-369, 50-370.
Application date | August 19, 2020.
ADAMS Accession No | ML20233A258.
Location in Application of NSHC | Page 6 of the Enclosure.
Brief Description of Amendment(s) | The amendments would revise the Catawba Nuclear Station, Units 1 and 2 and McGuire Nuclear Station, Units 1 and 2 Technical Specification 3.8.1 regarding the Emergency Diesel Generators to reduce the maximum steady state voltage specified in the associated surveillances.
Proposed Determination | NSHC.
Name of Attorney for Licensee, Mailing Address | Kathryn B. Nolan, Deputy General Counsel, Duke Energy Corporation, 550 South Tryon Street (DEC45A), Charlotte, NC 28202; Kathryn B. Nolan, Deputy General Counsel, Duke Energy Corporation, 550 South Tryon Street (DEC45A), Charlotte, NC 28202; Michelle Spak, General Counsel, Duke Energy Corporation, 550 South Tryon St.—DEC45A, Charlotte, NC 28202.
NRC Project Manager, Telephone Number | John Klos, 301-415-5136.
Energy Harbor Nuclear Corp. and Energy Harbor Nuclear Generation LLC; Beaver Valley Power Station, Units 1 and 2; Beaver County, PA
Docket No(s) | 50-334, 50-412.
Application date | October 30, 2020.
ADAMS Accession No | ML20304A215.
Location in Application of NSHC | Pages 9 through 11 of Enclosure A.
Brief Description of Amendment(s) | The proposed amendments would replace the currently referenced analytical methods in the technical specifications with more recent NRC-acceptable analytical methods for calculating reactor vessel neutron fluence and reactor coolant system pressure and temperature limits when updating the reactor coolant system Pressure and Temperature Limits Report.
Proposed Determination | NSHC.
Name of Attorney for Licensee, Mailing Address | Rick Giannantonio, General Counsel, Energy Harbor Nuclear Corp., Mail Stop A-GO-15, 76 South Main Street, Akron, OH 44308.
NRC Project Manager, Telephone Number | Jennifer Tobin, 301-415-2328.
Exelon Generation Company, LLC; Byron Station, Unit Nos. 1 and 2; Ogle County, IL
Docket No(s) | 50-455, 50-454.
Application date | October 29, 2020.
ADAMS Accession No | ML20304A147.
Location in Application of NSHC | Pages 75 through 78 of Attachment 1.
Brief Description of Amendment(s) | The proposed amendments would revise the Renewed Facility Operating Licenses and Appendix A, Technical Specifications, to be consistent with the permanent cessation of operation and defueling of the reactors.
Proposed Determination | NSHC.
Name of Attorney for Licensee, Mailing Address | Tamra Domeyer, Associate General Counsel, Exelon Generation Company, LLC, 4300 Winfield Road, Warrenville, IL 60555.
NRC Project Manager, Telephone Number | Joel Wiebe, 301-415-6606.
Exelon Generation Company, LLC; Byron Station, Unit Nos. 1 and 2; Ogle County, IL
Docket No(s) | 50-454, 50-455.
Application date | November 2, 2020.
ADAMS Accession No | ML20307A333.
Location in Application of NSHC | Pages 39 and 40 of Attachment 1.
Brief Description of Amendment(s) | The proposed amendment would revise the Site Emergency Plan for the post-shutdown and permanently defueled condition.
Proposed Determination | NSHC.
Name of Attorney for Licensee, Mailing Address | Tamra Domeyer, Associate General Counsel, Exelon Generation Company, LLC, 4300 Winfield Road, Warrenville, IL 60555.
NRC Project Manager, Telephone Number | Joel Wiebe, 301-415-6606.
Southern Nuclear Operating Company, Inc.; Edwin I Hatch Nuclear Plant, Units 1 and 2; Appling County, GA; Southern Nuclear Operating Company, Inc.; Joseph M Farley Nuclear Plant, Units 1 and 2; Houston County, AL; Southern Nuclear Operating Company, Inc.; Vogtle Electric Generating Plant, Units 1 and 2; Burke County, GA
Docket No(s) | 50-321, 50-348, 50-364, 50-366, 50-424, 50-425.
Application date | October 30, 2020.
ADAMS Accession No | ML20304A232.
Location in Application of NSHC | Pages E1-4 through E1-6 of Enclosure 1.
Brief Description of Amendment(s) | The amendments would revise certain Surveillance Requirements (SRs) in the Technical Specifications (TSs) by adding an exception to the SR for automatic valves or dampers that are locked, sealed, or otherwise secured in the actuated position. The proposed amendments are based on Technical Specifications Task Force (TSTF) Traveler TSTF-541, Revision 2, “Add Exceptions to Surveillance Requirements for Valves and Dampers Locked in the Actuated Position,” dated August 28, 2019 (ADAMS Accession No. ML19240A315). The NRC approved TSTF-541, Revision 2, by letter dated December 10, 2019.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Virginia Electric and Power Company; Surry Power Station, Unit Nos. 1 and 2; Surry County, VA
Docket No(s) | 50-280, 50-281.
Application date | September 30, 2020.
ADAMS Accession No | ML20274A329.
Location in Application of NSHC | Pages 5 through 7 of Attachment 1.
Brief Description of Amendment(s) | The proposed amendments would revise Technical Specifications 2.1.A.1.b, “Safety Limit Reactor Core,” to reflect the peak fuel centerline melt temperature specified in WCAP-17642-P-A, Revision 1, “Westinghouse Performance Analysis and Design Model (PAD5).”
Proposed Determination | NSHC.
Name of Attorney for Licensee, Mailing Address | W. S. Blair, Senior Counsel, Dominion Resource Services, Inc., 120 Tredegar St., RS-2, Richmond, VA 23219.
NRC Project Manager, Telephone Number | Vaughn Thomas, 301-415-5897.
Vistra Operations Company LLC; Comanche Peak Nuclear Power Plant, Unit Nos. 1 and 2; Somervell County, TX
Docket No(s) | 50-445, 50-446.
Application date | November 19, 2020.
ADAMS Accession No | ML20324A627.
Location in Application of NSHC | Pages 35 and 36 of the Enclosure.
Brief Description of Amendment(s) | The amendments would revise Technical Specification (TS) 3.7.8, “Station Service Water System (SSWS),” and TS 3.8.1, “AC [Alternating Current] Sources—Operating,” to extend the completion time for one SSWS train and one diesel generator inoperable from 72 hours to 8 days on a one-time basis to allow the replacement of Comanche Peak Nuclear Power Plant Unit 2 SSWS Pump 2-02 (Train B) during Unit 2 Cycle 19. The proposed revised TSs include a regulatory commitment that identifies compensatory measures to be implemented during the extended completion time.
Proposed Determination | NSHC.
Name of Attorney for Licensee, Mailing Address | Timothy P. Matthews, Esq., Morgan, Lewis and Bockius, 1111 Pennsylvania Avenue, NW, Washington, DC 20004.
NRC Project Manager, Telephone Number | Dennis Galvin, 301-415-6256.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below. The safety evaluation will provide the ADAMS accession numbers for the application for amendment and the Federal Register citation for any environmental assessment. All of these items can be accessed as described in the “Obtaining Information and Submitting Comments” section of this document.

License Amendment Issuance(s)
Duke Energy Carolinas, LLC; Oconee Nuclear Station, Units 1, 2, and 3; Oconee County, SC
Docket No(s) | 50-269, 50-270, 50-287.
Amendment Date | November 25, 2020.
ADAMS Accession No | ML20296A281.
Amendment No(s) | 418 (Unit 1), 420 (Unit 2), and 419 (Unit 3).
Brief Description of Amendment(s) | The amendments revised Technical Specification (TS) 5.5.8, “Reactor Coolant Pump [RCP] Flywheel Inspection Program,” by modifying RCP flywheel inspection methods and extending the inspection frequency for the RCP motor flywheel. These changes are consistent with the NRC-approved Technical Specifications Task Force (TSTF) Traveler TSTF-421,”Revision to RCP Flywheel Inspection Program (WCAP-15666).”.
Public Comments Received as to proposed NSHC (Yes/No) | No.
Energy Harbor Nuclear Corp. and Energy Harbor Nuclear Generation LLC; Perry Nuclear Power Plant, Unit 1; Lake County, OH
Docket No(s) | 50-440.
Amendment Date | October 8, 2020.
ADAMS Accession No | ML20216A354.
Amendment No(s) | 191.
Brief Description of Amendment(s) | The amendment revised the expiration date of the Perry Nuclear Power Plant full-power operating license such that it expires 40 years from the date of issuance (November 7, 2026).
Public Comments Received as to Proposed NSHC (Yes/No) | No.
Exelon Generation Company, LLC; Limerick Generating Station, Units 1 and 2; Montgomery County, PA
Docket No(s) | 50-352, 50-353.
Amendment Date | November 30, 2020.
ADAMS Accession No | ML20239A725.
Amendment No(s) | 249 (Unit 1) and 211 (Unit 2).
Brief Description of Amendment(s) | The amendments revised Technical Specification (TS) 3/4.10.8, “Inservice Leak and Hydrostatic Testing,” by adopting Technical Specifications Task Force (TSTF) Traveler TSTF-484, Revision 0, “Use of TS 3.10.1 for Scram Time Testing Activities.” Specifically, Limiting Condition for Operation 3.10.8 is expanded in scope to include provisions for temperature excursions greater than 212 °F as a consequence of inservice leak and hydrostatic testing, and as a consequence of scram time testing initiated in conjunction with an inservice leak or hydrostatic test, while considering operational conditions to be in Operational Condition 4.
Public Comments Received as to Proposed NSHC (Yes/No) | No.
Exelon Generation Company, LLC; Limerick Generating Station, Units 1 and 2; Montgomery County, PA
Docket No(s) | 50-352, 50-353.
Amendment Date | December 1, 2020.
ADAMS Accession No | ML20255A063.
Amendment No(s) | 250 (Unit 1) and 212 (Unit 2).
Brief Description of Amendment(s) | The amendments revised technical specification surveillance requirements for testing of the safety relief valves to retain the frequency and certain testing requirements only in the inservice testing program, consistent with NUREG-1433, Revision 4.
Public Comments Received as to Proposed NSHC (Yes/No) | No.
Exelon Generation Company, LLC; Three Mile Island Nuclear Station, Unit 1; Dauphin County, PA
Docket No(s) | 50-289, 50-320.
Amendment Date | December 2, 2020.
ADAMS Accession No | ML20261H925.
Amendment No(s) | 299.
Brief Description of Amendment(s) | The amendment revised the site emergency plan for the Three Mile Island site and the emergency action level scheme to reflect the permanently shutdown and defueled condition for Unit 1.
Public Comments Received as to Proposed NSHC (Yes/No) | Yes.
Exelon Generation Company, LLC; Three Mile Island Nuclear Station, Unit 1; Dauphin County, PA
Docket No(s) | 50-289.
Amendment Date | December 3, 2020.
ADAMS Accession No | ML20297A635.
Amendment No(s) | 300.
Brief Description of Amendment(s) | The amendment deleted permanently defueled Technical Specification 3/4.1.4, “Handling of Irradiated Fuel with Fuel Handling Building Crane,” since the crane necessitating this requirement is being replaced with one that does not need these additional requirements.
Public Comments Received as to Proposed NSHC (Yes/No) | No.
Exelon Generation Company, LLC; Three Mile Island Nuclear Station, Unit 1; Dauphin County, PA
Docket No(s) | 50-289.
Amendment Date | December 4, 2020.
ADAMS Accession No | ML20297A627.
Amendment No(s) | 301.
Brief Description of Amendment(s) | The amendment removed the requirement for a Cyber Security Plan from the license.
Public Comments Received as to Proposed NSHC (Yes/No) | No.
Florida Power & Light Company, et al.; St. Lucie Plant, Unit No. 2; St. Lucie County, FL
Docket No(s) | 50-389.
Amendment Date | November 18, 2020.
ADAMS Accession No | ML20259A298.
Amendment No(s) | 205.
Brief Description of Amendment(s) | The amendment modified the St. Lucie Plant, Unit No. 2, Technical Specifications by revising the Reactor Coolant Pump Flywheel Inspection Program requirements to be consistent with the conclusions and limitations specified in the NRC safety evaluation of Topical Report SIR-94-080, “Relaxation of Reactor Coolant Pump Flywheel Inspection Requirements,” dated May 21, 1997.
Public Comments Received as to Proposed NSHC (Yes/No) | No.
Florida Power & Light Company; Turkey Point Nuclear Generating Unit Nos. 3 and 4; Miami-Dade County, FL
Docket No(s) | 50-250, 50-251.
Amendment Date | October 20, 2020.
ADAMS Accession No | ML20237F385.
Amendment No(s) | 293 (Unit 3) and 286 (Unit 4).
Brief Description of Amendment(s) | The amendments revised the Turkey Point Emergency Plan by adopting the methodology for developing an emergency action level scheme as described in Nuclear Energy Institute (NEI) 99-01, Revision 6, “Development of Emergency Action Levels for Non-Passive Reactors.” The amendments revised certain technical specification (TS) containment atmospheric radioactivity and containment ventilation isolation instrument setpoints, modified the TS limiting condition for operation with the TS action and completion times related to the inoperability of reactor coolant system radioactivity monitors, adjusted the frequency of reactor coolant system water inventory balances, changed the TS limiting condition for operation related to isolation of the containment purge supply and exhaust isolation valves, and approved the relocation of the purge valve leakage rate criteria out of the TSs to licensee administrative control within the constraints of 10 CFR 50.59.
Public Comments Received as to Proposed NSHC (Yes/No) | No.
Holtec Pilgrim, LLC and Holtec Decommissioning International; Pilgrim Nuclear Power Station; Plymouth County, MA
Docket No(s) | 50-293.
Amendment Date | December 1, 2020.
ADAMS Accession No | ML20328A297.
Amendment No(s) | 253.
Brief Description of Amendment(s) | The amendment revised the Pilgrim Physical Security Plan (PSP) and revised License Condition 3.G, “Physical Protection.” The revised PSP integrates the existing PSP's Appendix D. Appendix D of the revised PSP provides the security requirements for the new Independent Spent Fuel Storage Installation (ISFSI) (referred to as ISFSI II) that is currently being built in the Owner Controlled Area outside of the existing Protected Area.
Public Comments Received as to Proposed NSHC (Yes/No) | No.
Nebraska Public Power District; Cooper Nuclear Station; Nemaha County, NE
Docket No(s) | 50-298.
Amendment Date | December 2, 2020.
ADAMS Accession No | ML20314A235.
Amendment No(s) | 268.
Brief Description of Amendment(s) | The amendment revised technical specification actions for inoperable residual heat removal (RHR) shutdown cooling subsystems in the RHR shutdown cooling system limiting conditions for operation for Cooper Nuclear Station. The changes are based on Technical Specifications Task Force (TSTF) Traveler TSTF-566, Revision 0, “Revise Actions for Inoperable RHR Shutdown Cooling Subsystems,” dated January 19, 2018, using the consolidated line item improvement process.
Public Comments Received as to Proposed NSHC (Yes/No) | No.
NextEra Energy Seabrook, LLC; Seabrook Station, Unit No. 1; Rockingham County, NH
Docket No(s) | 50-443.
Amendment Date | November 24, 2020.
ADAMS Accession No | ML20298A253.
Amendment No(s) | 166.
Brief Description of Amendment(s) | The amendment revised Technical Specification 3/4.8.1, “A.C. [Alternating Current]—Operating,” to allow for a one-time extension of the allowed outage time for one emergency diesel generator inoperable from 14 days to 30 days. The change allows the licensee to perform planned maintenance on the B emergency diesel generator while at power.
Public Comments Received as to Proposed NSHC (Yes/No) | No.
Northern States Power Company—Minnesota; Prairie Island Nuclear Generating Plant, Unit Nos. 1 and 2; Goodhue County, MN
Docket No(s) | 50-282, 50-306.
Amendment Date | November 18, 2020.
ADAMS Accession No | ML20283A342.
Amendment No(s) | 233 (Unit 1) and 221 (Unit 2).
Brief Description of Amendment(s) | The amendments revised the Prairie Island Nuclear Generating Plant, Units 1 and 2, technical specifications to adopt Technical Specifications Task Force (TSTF) Traveler TSTF-547, “Clarification of Rod Position Requirements,” with site-specific variations.
Public Comments Received as to Proposed NSHC (Yes/No) | No.
Southern Nuclear Operating Company, Inc.; Edwin I Hatch Nuclear Plant, Units 1 and 2; Appling County, GA
Docket No(s) | 50-321, 50-366.
Amendment Date | December 7, 2020.
ADAMS Accession No | ML20294A076.
Amendment No(s) | 308 (Unit 1) and 253 (Unit 2).
Brief Description of Amendment(s) | The amendments revised the technical specifications (TSs) related to reactor pressure vessel (RPV) water inventory control (WIC) based on Technical Specifications Task Force (TSTF) Traveler TSTF-582, Revision 0, “RPV WIC Enhancements,” and the associated NRC staff safety evaluation of TSTF-582.
Public Comments Received as to Proposed NSHC (Yes/No) | No.
Tennessee Valley Authority; Browns Ferry Nuclear Plant, Units 1, 2, and 3; Limestone County, AL; Tennessee Valley Authority; Sequoyah Nuclear Plant, Units 1 and 2; Hamilton County, TN; Tennessee Valley Authority; Watts Bar Nuclear Plant, Units 1 and 2; Rhea County, TN
Docket No(s) | 50-259, 50-260, 50-296, 50-327, 50-328, 50-390, 50-391.
Amendment Date | November 19, 2020.
ADAMS Accession No | ML20282A345.
Amendment No(s) | Browns Ferry—313 (Unit 1), 336 (Unit 2) and 296 (Unit 3); Sequoyah—350 (Unit 1) and 344 (Unit 2); Watts Bar—138 (Unit 1) and 44 (Unit 2).
Brief Description of Amendment(s) | The amendments revised the Tennessee Valley Authority Fleet Radiological Emergency Plan to change the requirement from having an on-shift emergency medical technician to a requirement for an on-shift emergency medical professional. Additionally, the amendments removed the requirement for an onsite ambulance at each site.
Public Comments Received as to Proposed NSHC (Yes/No) | No.
Tennessee Valley Authority; Sequoyah Nuclear Plant, Units 1 and 2; Hamilton County, TN
Docket No(s) | 50-327, 50-328.
Amendment Date | November 12, 2020.
ADAMS Accession No | ML20262H026.
Amendment No(s) | 349 (Unit 1) and 343 (Unit 2).
Brief Description of Amendment(s) | The amendments revised Technical Specification 3.3.1, Table 3.3.1-1, “Reactor Trip System Instrumentation,” Function 14.a. “Turbine Trip—Low Fluid Oil Pressure,” to increase the nominal trip setpoint from 45 pounds per square inch gauge (psig) to 800 psig, and the allowable value from greater than or equal to 39.5 psig to greater than or equal to 710 psig.
Public Comments Received as to Proposed NSHC (Yes/No) | No.
Virginia Electric and Power Company; Surry Power Station, Unit Nos. 1 and 2; Surry County, VA
Docket No(s) | 50-280, 50-281.
Amendment Date | December 8, 2020.
ADAMS Accession No. | ML20148M359.
Amendment No(s) | 302 (Unit 1) and 302 (Unit 2).
Brief Description of Amendment(s) | The amendments revised Technical Specifications (TS) Figure 3.1-1, “Surry Units 1 and 2 Reactor Coolant System Heatup Limitations,” and Figure 3.1-2, “Surry Units 1 and 2 Reactor Coolant System Cooldown Limitations,” to update the cumulative core burnup applicability limit and to revise and relocate the limiting material property basis from the TS figures to the TS basis.
Public Comments Received as to Proposed NSHC (Yes/No) | No.
Virginia Electric and Power Company; Surry Power Station, Unit Nos. 1 and 2; Surry County, VA
Docket No(s) | 50-280, 50-281.
Amendment Date. | December 8, 2020.
ADAMS Accession No | ML20293A160.
Amendment No(s) | 301 (Unit 1) and 301 (Unit 2).
Brief Description of Amendment(s) | The amendments modified the Surry licensing basis by the addition of a license condition to allow for the implementation of the provisions of 10 CFR Section 50.69, “Risk informed categorization and treatment of structures, systems and components for nuclear power reactors.”.
Public Comments Received as to Proposed NSHC (Yes/No) | No.
Vistra Operations Company LLC; Comanche Peak Nuclear Power Plant, Unit Nos. 1 and 2; Somervell County, TX
Docket No(s) | 50-445, 50-446.
Amendment Date | November 16, 2020.
ADAMS Accession No | ML20168A924.
Amendment No(s) | 176 (Unit 1) and 176 (Unit 2).
Brief Description of Amendment(s) | The amendments revised Technical Specification 3.4.15, “RCS [Reactor Coolant System] Leakage Detection Instrumentation,” to align with the Standard Technical Specifications for Westinghouse Plants and incorporated the changes made by Technical Specifications Task Force (TSTF) Traveler TSTF-513, Revision 3, “Revise PWR [Pressurized-Water Reactor] Operability Requirements and Actions for RCS Leakage Instrumentation.”.
Public Comments Received as to Proposed NSHC (Yes/No) | No.
Wolf Creek Nuclear Operating Corporation; Wolf Creek Generating Station, Unit 1; Coffey County, KS
Docket No(s) | 50-482.
Amendment Date | December 7, 2020.
ADAMS Accession No. | ML20276A149.
Amendment No(s) | 226.
Brief Description of Amendment(s) | The amendment revised Technical Specification 5.5.16, “Containment Leakage Rate Testing Program,” to extend the Type A and Type C leak rate test frequencies. Specifically, the change allows the extension of the Type A integrated leakage rate test containment test interval to 15 years and the extension of the Type C local leakage rate test interval to 75 months.
Public Comments Received as to Proposed NSHC (Yes/No) | No.

Dated: December 18, 2020.
For the Nuclear Regulatory Commission.
Caroline L. Carusone,
Deputy Director, Division of Operating Reactor Licensing, Office of Nuclear Reactor Regulation.

[FR Doc. 2020-28442 Filed 12-28-20; 8:45 am]

BILLING CODE 7590-01-P